DEPARTMENT OF HEALTH AND HUMAN SERVICES

Administration for Children and Families

Family Youth and Services Bureau

AGENCY: Family Youth And Services Bureau, ACF, DHHS.

ACTION: Notice to Award a Single-Source Replacement Grant.

CFDA#: 93.616.

Legislative Authority: Section 439 of the Social Security Act, as amended by the Child and Family Services Improvement Act of 2006 (Pub. L. 109-288)

Amount of Award: $292,000.

Project Period: April 1, 2009-September 29, 2010.

SUMMARY: The Family and Youth Services Bureau (FYSB) awarded a Mentoring Children of Prisoners grant (Grant No. 90CV0343) to Prevent Child Abuse California of North Highlands, CA on September 30, 2007. On October 31, 2008, Prevent Child Abuse California submitted a letter relinquishing their grant. Amador Tuolumne Community Action Agency of Jackson, CA, an eligible non-profit organization, submitted their letter along with their grant application requesting approval as the replacement grantee for the Mentoring Children of Prisoners grant. FYSB has received and reviewed the application from Amador Tuolumne Community Action Agency. Upon finding that the proposed project will be able to carry out objectives originally intended to be completed by Prevent Child Abuse California, this organization has been awarded funds in the amount of $292,000 as the permanent successor grantee.

Amador Tuolumne Community Action Agency will continue through a community-based approach to work toward the goal of creating high-quality, one-to-one lasting mentoring relationships that provide young people, who have an incarcerated parent with caring adult volunteers.

Additional information about this program and its purpose can be located on the following Web site: http://www.acf.hhs.gov/programs/fysb.

Contact for Further Information: Gloria Watkins, Family Youth and Services Bureau, 1250 Maryland Ave., SW., Washington, DC 20047. Telephone: (202) 205-9546. E-mail: Gloria.Watkins@acf.hhs.gov.

Dated: May 12, 2009.
Maiso L. Bryant,
Acting Commissioner, Administration on Children, Youth and Families.

[FR Doc. E9-11816 Filed 5-20-09; 8:45 am]

BILLING CODE P